CONSUMER PRODUCT SAFETY COMMISSION

16 CFR Part 1211

Safety Standard for Automatic Residential Garage Door Operators

AGENCY: Consumer Product Safety Commission.

ACTION: Notice of proposed rulemaking.

SUMMARY: The Consumer Product Safety Commission is proposing to amend 16 CFR part 1211, Safety Standard for Automatic Residential Garage Door Operators, to reflect changes made by Underwriters Laboratories, Inc. in its standard UL 325.

DATES: Written comments in response to this document must be received by the Commission no later than February 20, 2007.

ADDRESSES: Comments should be filed by e-mail to cpsc-os@cpsc.gov. Comments also may be filed by telefacsimile to (301) 504-0127 or they may be mailed or delivered, preferably in five copies, to the Office of the Secretary, U.S. Consumer Product Safety Commission, Room 502, 4330 East-West Highway, Bethesda, Maryland 20814-4408; telephone (301) 504-7923. Comments should be captioned “Garage door operators.”

FOR FURTHER INFORMATION CONTACT: John Murphy, Directorate for Engineering Sciences, Consumer Product Safety Commission, 4330 East-West Highway, Bethesda, Maryland, 20814-4408, telephone 301-504-7664 or e-mail: jmurphy@cpsc.gov.

SUPPLEMENTARY INFORMATION: The Commission issued part 1211 on December 21, 1992 to minimize the risk of entrapment by residential garage door openers. As mandated by section 203 of Public Law 101-608, subpart A of part 1211 codifies garage door operator entrapment provisions of Underwriter Laboratories, Inc. (“UL”) standard UL 325, third edition, “Door, Drapery, Louver and Window Operators and Systems.” Subparagraph (c) of section 203 of Public Law 101-608 also required the Commission to incorporate into part 1211 any revisions that UL proposed to the entrapment protection requirements of UL 325, unless the Commission notified UL that the revision does not carry out the purposes of Public Law 101-608.

Recently, UL revised some provisions of UL 325 in response to a request from Commission staff. The staff identified several incidents in which children became entrapped beneath a garage door that had been left partially open. In most of these incidents, a child tried to crawl under the partially open door and became stuck under the door. A bystander pressed the wall control button thinking the door would go up and release the child. Instead, the garage door moved down compressing and further entrapping the child. The Commission determined that the entrapment related revisions incorporated into the UL standard do carry out the purposes of Public Law 101-608. The proposed rule would revise part 1211 to reflect the changes UL made to UL 325. UL set an effective date of February 21, 2008 for these provisions in the UL standard. The Commission proposes the same effective date for these provisions in the CPSC standard.

To address the same entrapment hazard, UL also added to its standard a requirement that the statement “Never go under a stopped partially open door” be added to garage door operator instruction manuals. The Commission is proposing to make this change in the CPSC standard as well. UL set an effective date of September 14, 2004 for this provision in UL 325. The Commission proposes that the instruction manual provision in the CPSC standard would become effective when it is published as a final rule.

Pursuant to section 605(b) of the Regulatory Flexibility Act, 5 U.S.C. 605(b), the Commission certifies that this rule will not have a significant impact on a substantial number of small entities. The changes are minor. Moreover, UL has already made these changes to its UL 325 standard which is widely followed by the industry. The Commission also certifies that this rule will have no environmental impact. The Commission's regulations state that safety standards for products normally have little or no potential for affecting the human environment. 16 CFR 1021.5(c)(1). Nothing in this proposed rule alters that expectation.

Public Law 101-608 contains a preemption provision. It states: “those provisions of laws of States or political subdivisions which relate to the labeling of automatic residential garage door openers and those provisions which do not provide at least the equivalent degree of protection from the risk of injury associated with automatic residential garage door openers as the consumer product safety rule” are subject to preemption under 15 U.S.C. 2075. Public Law 101-608, section 203(f).

List of Subjects in 16 CFR Part 1211

Consumer protection, Imports, Labeling, Reporting and recordkeeping requirements.

Accordingly, 16 CFR part 1211 is proposed to be amended as follows:

PART 1211—SAFETY STANDARDS FOR AUTOMATIC RESIDENTIAL GARAGE DOOR OPENERS

1. The authority citation for part 1211 continues to read as follows:

Authority: Sec. 203 of Public Law 101-608, 104 Stat. 3110; 15 U.S.C. 2063 and 2065.

2. Section 1211.7 is amended by revising paragraphs (a), (b), (f) and (g) to read as follows:

§ 1211.7 Inherent entrapment protection requirements.

(a)(1) Other than for the first 1 foot (305mm) of door travel from the full upmost position both with and without any external entrapment protection device functional, the operator of a downward moving residential garage door shall initiate reversal of the door within 2 seconds of contact with the obstruction as specified in paragraph (b) of this section. After reversing the door, the operator shall return the door to, and stop at, the full upmost position. Compliance shall be determined in accordance with paragraphs (b) through (i) of this section.

(2) The door operator is not required to return the door to, and stop the door at, the full upmost position when the operator senses a second obstruction during the upward travel.

(3) The door operator is not required to return the door to, and stop the door at, the full upmost position when a control is actuated to stop the door during the upward travel—but the door can not be moved downward until the operator reverses the door a minimum of 2 inches (50.8 mm).

(b)(1) A solid object is to be placed on the floor of the test installation and at various heights under the edge of the door and located in line with the driving point of the operator. When tested on the floor, the object shall be 1 inch (25.4 mm) high. In the test installation, the bottom edge of the door under the driving force of the operator is to be against the floor when the door is fully closed.

(2) For operators other than those attached to the door, a solid object is not required to be located in line with the driving point of the operator. The solid object is to be located at points at the center, and within 1 foot of each end of the door.

(3) To test operators for compliance with requirements in paragraphs (a)(3), (f)(3), and (g)(3) of this section, § 1211.10(a)(6)(iii), and § 1211.13(c), a solid rectangular object measuring 4 inches (102 mm) high by 6 inches (152 mm) wide by a minimum of 6 inches (152 mm)long is to be placed on the floor of the test installation to provide a 4-inch (102 mm) high obstruction when operated from a partially open position.

* * * * *

(f)(1) An operator, using an inherent entrapment protection system that monitors the actual position of the door, shall initiate reversal of the door and shall return the door to, and stop the door at, the full upmost position in the event the inherent door operating “profile” of the door differs from the originally set parameters. The entrapment protection system shall monitor the position of the door at increments not greater than 1 inch (25.4 mm).

(2) The door operator is not required to return the door to, and stop the door at, the full upmost position when an inherent entrapment circuit senses an obstruction during the upward travel.

(3) The door operator is not required to return the door to, and stop the door at, the full upmost position when a control is actuated to stop the door during the upward travel—but the door can not be moved downward until the operator reverses the door a minimum of 2 inches (50.8 mm).

(g)(1) An operator, using an inherent entrapment protection system that does not monitor the actual position of the door, shall initiate reversal of the door and shall return the door to and stop the door at the full upmost position, when the lower limiting device is not actuated in 30 seconds or less following the initiation of the close cycle.

(2) The door operator is not required to return the door to, and stop the door at, the full upmost position when an inherent entrapment circuit senses an obstruction during the upward travel. When the door is stopped manually during its descent, the 30 seconds shall be measured from the resumption of the close cycle.

(3) The door operator is not required to return the door to, and stop the door at, the full upmost position when a control is actuated to stop the door during the upward travel—but the door can not be moved downward until the operator reverses the door a minimum of 2 inches (50.8 mm). When the door is stopped manually during its descent, the 30 seconds shall be measured from the resumption of the close cycle.

3. Section 1211.10 is amended by revising paragraph (a)(1) and adding a new paragraph (a)(6) to read as follows:

§ 1211.10 Requirements for all entrapment protection devices.

(a) General requirements. (1) An external entrapment protection device shall perform its intended function when tested in accordance with paragraphs (a)(2) through (4) and (6) of this section.

* * * * *

(6)(i) An operator using an external entrapment protection device, upon detecting a fault or an obstruction in the path of a downward moving door, shall initiate reversal and shall return the door to, and stop the door at, the full upmost position.

(ii) The door operator is not required to return the door to, and stop the door at, the full upmost position when an inherent entrapment circuit senses an obstruction during the upward travel.

(iii) The door operator is not required to return the door to, and stop the door at, the full upmost position when a control is actuated to stop the door during the upward travel—but the door can not be moved downward until the operator has reversed the door a minimum of 2 inches (50.8 mm).

4. Section 1211.13 is amended by adding a new paragraph (c) to read as follows:

§ 1211.13 Inherent force activated secondary door sensors.

(a) * * *

(b) * * *

(c) Obstruction test. For a door traveling in the downward direction, when an inherent secondary entrapment protection device senses an obstruction and initiates a reversal, a control activation shall not move the door downward until the operator reverses the door a minimum of 2 inches (50.8 mm). The test is to be performed as described in § 1211.7(b)(3).

5. Section 1211.14 is amended by revising paragraph (b)(2) to read as follows:

§ 1211.14 [Amended]

(a) * * *

(b) Specific required instructions.

(1) * * *

(2) The User Instructions shall include the following instructions:

Important Safety Instructions

Warning—To reduce the risk of severe injury or death:

1. Read and Follow all Instructions.

2. Never let children operate, or play with door controls. Keep the remote control away from children.

3. Always keep the moving door in sight and away from people and objects until it is completely closed. No One Should Cross the Path of the Moving Door.

4. NEVER GO UNDER A STOPPED PARTIALLY OPEN DOOR.

5. Test door opener monthly. The garage door MUST reverse on contact with a 1½ inch object (or a 2 by 4 board laid flat) on the floor. After adjusting either the force or the limit of travel, retest the door opener. Failure to adjust the opener properly may cause severe injury or death.

6. For products requiring an emergency release, if possible, use the emergency release only when the door is closed. Use caution when using this release with the door open. Weak or broken springs may allow the door to fall rapidly, causing injury or death.

7. Keep Garage Door Properly Balanced. See owner's manual. An improperly balanced door could cause severe injury or death. Have a qualified service person make repairs to cables, spring assemblies and other hardware.

8. Save These Instructions.

Dated: January 11, 2007.
Todd A. Stevenson,
Secretary, Consumer Product Safety Commission.

[FR Doc. E7-580 Filed 1-17-07; 8:45 am]

BILLING CODE 6335-01-P